DEPARTMENT OF HEALTH AND HUMAN SERVICES

Administration for Children and Families

Proposed Information Collection Activity; Comment Request

Proposed Projects

Title: Grants Application Data Summary, Administration for Native Americans, Envir. & Lang. Application Info.

OMB.: New Collection.

Description: These Grant Application Data Summary (GADS) forms allow information to be collected as part of a grant application. The GADS forms provide information used to prepare the legislatively mandated annual report to Congress on the status of American Indians, Native Alaskans, Native Hawaiians and Pacific Islander communities.

The purpose of these information collections is to collect information from applicants that the Administration for Native Americans can use for more accurate reporting to the Administration for Children and Families and to Congress on the status of American Indians, Native Alaskans, Native Hawaiians and Pacific Islander communities.

Respondents: Tribal Governments, Native Non-Profits, Tribal Colleges and Universities.

Annual Burden Estimates:

Instrument | Number of respondents | Number of responses per respondent | Average burden hours per response | Total burden hours
Grants Application Data Summary—Environmental | 650 | 1 | 28 | 18,200
Grants Application Data Summary—Language | 650 | 1 | 28 | 18,200

Estimated Total Annual Burden Hours: 36,400.

In compliance with the requirements of Section 3506(c)(2)(A) of the Paperwork Reduction Act of 1995, the Administration for Children and Families is soliciting public comment on the specific aspects of the information collection described above.

Copies of the proposed collection of information can be obtained and comments may be forwarded by writing to the Administration for Children and Families, Office of Administration, Office of Information Services, 370 L'Enfant Promenade, SW., Washington, DC 20447, Attn: ACF Reports Clearance Officer. E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 28, 2003.
Robert Sargis,
Reports Clearance Officer.

[FR Doc. 03-27613 Filed 11-3-03; 8:45 am]

BILLING CODE 4184-01-M